NUCLEAR REGULATORY COMMISSION

[Docket No. 52-036]

Entergy Operations, Inc., et al.; Acceptance for Docketing of an Application for Combined License (COL) for River Bend, Unit 3

On September 25, 2008, Entergy Operations, Incorporated, on behalf of itself and Entergy Mississippi, Incorporated, Entergy Louisiana, LLC, and Entergy Gulf States Louisiana, LLC filed with the U.S. Nuclear Regulatory Commission (NRC, the Commission) pursuant to Section 103 of the Atomic Energy Act and Title 10 of the Code of Federal Regulations (10 CFR) Part 52, “Licenses, Certifications, and Approvals for Nuclear Power Plants,” an application for a combined license (COL) for an economic simplified boiling water reactor (ESBWR) nuclear power plant, to be located in West Feliciana Parish, Louisiana. The reactor is to be identified as River Bend Station, Unit 3. A notice of receipt and availability of this application was previously published in the Federal Register (73 FR 67895 on November 17, 2008).

The NRC staff has determined that Entergy Operations, Incorporated, et al. has submitted information in accordance with 10 CFR Part 2, “Rules of Practice for Domestic Licensing Proceedings and Issuance of Orders,” and Part 52 that is sufficiently complete and acceptable for docketing. The docket number established for this application is 52-036.

The NRC staff will perform a detailed technical review of the application. Docketing of the COL application does not preclude the NRC from requesting additional information from the applicant as the review proceeds, nor does it predict whether the Commission will grant or deny the application. The Commission will conduct a hearing in accordance with Subpart L, “Informal Hearing Procedures for NRC Adjudications,” of 10 CFR Part 2 and will receive a report on the COL application from the Advisory Committee on Reactor Safeguards in accordance with 10 CFR 52.87, “Referral to the Advisory Committee on Reactor Safeguards (ACRS).” If the Commission finds that the application meets the applicable standards of the Atomic Energy Act and the Commission's regulations, and that required notifications to other agencies and bodies have been made, the Commission will issue a COL, in the form and containing conditions and limitations that the Commission finds appropriate and necessary.

In accordance with 10 CFR Part 51, the Commission will also prepare an environmental impact statement for the proposed action. Pursuant to 10 CFR 51.26, and as part of the environmental scoping process, the staff intends to hold a public scoping meeting. Detailed information regarding this meeting will be included in a future Federal Register notice. Finally, the Commission will announce in a future Federal Register notice the opportunity to petition for leave to intervene in the hearing required for this application.

A copy of the Entergy Operations, Inc. COL application is available for public inspection at the Commission's Public Document Room located at One White Flint North, 11555 Rockville Pike (first floor), Rockville, Maryland. The application is also available at http://www.nrc.gov/reactors/new-reactors/col.html and is accessible electronically from the Agencywide Documents Access and Management System (ADAMS) Public Electronic Reading Room on the Internet at the NRC Web site, http://www.nrc.gov/reading-rm/adams.html (ADAMS Accession No. ML082830022).

Persons who do not have access to ADAMS, or who encounter problems in accessing the documents located in ADAMS, should contact the NRC Public Document Room staff by telephone at 1-800-397-4209, (301) 415-4737 or by e-mail to pdr@nrc.gov.

Dated at Rockville, Maryland, this 4th day of December 2008.
For the Nuclear Regulatory Commission.
Thomas A. Kevern,
Senior Project Manager, ABWR/ESBWR Projects Branch 1, Division of New Reactor Licensing, Office of New Reactors.

[FR Doc. E8-29185 Filed 12-9-08; 8:45 am]

BILLING CODE 7590-01-P